DEPARTMENT OF DEFENSE

Department of the Army; Corps of Engineers

Intent To Prepare a Draft Environmental Impact Statement for the C-43 Basin Storage Reservoir Project adjacent to the Caloosahatchee River, Hendry, Glades, Charlotte, or Lee County, FL

AGENCY: Department of the Army, U.S. Army Corps of Engineers, DOD.

ACTION: Notice of intent.

SUMMARY: The Jacksonville District, U.S. Army Corps of Engineers (Corps), intends to prepare an integrated Project Implementation Report and Draft Environmental Impact Statement (DEIS) for the C-43 Basin Storage Reservoir Project, part 1. The study is a cooperative effort between the Corps and the South Florida Water Management District (SFWMD), which is also a cooperating agency for this DEIS. One of the recommendations of the final report of the Central & South Florida (C&SF) Comprehensive Review Study (Restudy) was the C-43 Basin Storage Reservoir Project. This project includes the construction of an approximately 160,000 acre-feet storage area within the Caloosahatchee Basin to capture and store stormwater runoff and water releases from Lake Okeechobee. Stored water would be used to meet the environmental demands of the Caloosahatchee River and Estuary and urban and agricultural demand as able.

DATES: A public meeting is cheduled for May 1, 2003, 7 p.m. in Hendry County at the Dallas B. Townsend Agricultural Center, 1085 Pratt Boulevard, LaBelle, FL.

FOR FURTHER INFORMATION CONTACT: Mrs. Susan Conner, U.S. Army Corps of Engineers, Planning Division, Environmental Branch, P.O. Box 4970, Jacksonville, FL, 32232-0019, or by telephone at 904-232-1782.

SUPPLEMENTARY INFORMATION: a. Authorization: Section 601 of the Water Resources Development Act of 2000 authorized a framework and guide for modifications to the C&SF Project to restore the south Florida ecosystem and to provide for the other water-related needs of the region, including the C-43 Basin Storage Reservoir Project.

b. Project Scope: The purpose of this project is to capture C-43 Basin runoff and releases from Lake Okeechobee. These facilities will be designed for water supply benefits, some flood attenuation, to provide environmental water supply deliveries to the Caloosahatchee Estuary, and water quality benefits to reduce salinity and nutrient impacts of runoff to the estuary. It is assumed that, depending upon the location of the facility and pollutant loading conditions in the watershed, the facility could be designed to achieve significant water quality improvements, consistent with appropriate pollution load reduction targets. The project as proposed will include the construction of an above-ground reservoir(s) with a total capacity of approximately 160,000 acre-feet, located in the C-43 Basin in Hendry, Glades, Charlotte, or Lee Counties. Water levels could fluctutate up to 8 feet above grade.

c. Preliminary Alternatives: Formulation of alternative plans will involve the selection of the most suitable site or sites for a reservoir, depth and configurations of the impoundment(s), investigation of intake and discharge sites, and investigation opportunities in configuration designs to provide significant water quality improvements for the project.

The Environmental Impact Statement (EIS) evaluation of the project will include an evaluation of adverse environmental impacts, including but not limited to, water quality, socio-economic, archeological and biological. In addition to adverse impacts, the evaluation will also focus on how well the plans perform with regard to specific ecological and other performance measures.

d. Issues: The EIS will consider impacts on water quality, ecosystem habitat, threatened and endangered species, health and safety, aesthetics and recreation, fish and wildlife resources, culture resources, water availability, flood protection, and other potential impacts identified through scoping, public involvement, and interagency coordination.

e. Scoping: Initial project scoping began in February 2002 at a public meeting in Hendry County. A scooping letter was issued in February 2002 to interested parties inviting all interested parties and government agencies to participate in the scoping process by identifying any additional concerns on issues, studies needed, alternatives, procedures, and other matters related to the scoping process. A NEPA scoping letter will be issued in March 2003, along with this notice. A public meeting is scheduled for May 1, 2003 (see DATES above).

f. Public Involvement. We invite the participation of affected Federal, State and local agencies, affected Indian tribes, and other interested private organizations and parties.

g. Coordination: The proposed action is being coordinated with the U.S. Fish and Wildlife Service (FWS) and the National Marine Fisheries Service under section 7 of the Endangered Species Act, with the FWS under the Fish and Wildlife Coordination Act, and with the State Historic Preservation Officer.

h. Other Environmental Review and Consultation: The proposed action would involve evaluation for compliance with guidelines pursuant to section 404(b) of the Clean Water Act; application (to the State of Florida) for Water Quality Certification pursuant to section 401 of the Clean Water Act; certification of State lands, easements and right of ways, and determination of Coastal Zone Management Act consistency.

i. Agency Role: As cooperation agency, non-Federal sponsor, and leading local expert, SFWMD will provide information and assistance on the resources to be impacted and alternatives.

j. DEIS Preparation: The integrated Project Implementation Report (PIR) including a DEIS, is currently estimated for publication in September 2004.

Dated: March 17, 2003.
James C. Duck,
Chief, Planning Division.

[FR Doc. 03-7498 Filed 3-27-03; 8:45 am]

BILLING CODE 3710-AJ-M